DEPARTMENT OF COMMERCE

National Oceanic and Atmospheric Administration

[RTID 0648-XB369]

North Pacific Fishery Management Council; Public Meeting

AGENCY: National Marine Fisheries Service (NMFS), National Oceanic and Atmospheric Administration (NOAA), Commerce.

ACTION: Notice of web conference.

SUMMARY: The North Pacific Fishery Management Council (Council) Crab Plan Team will meet September 13, 2021, through September 17, 2021 and on September 24, 2021.

DATES: The meeting will be held on Monday, September 13, 2021 through Friday, September 17, 2021, and Friday, September 24, 2021, from 8 a.m. to 4 p.m. Alaska Time.

ADDRESSES: The meeting will be a web conference. Join online through the link at https://meetings.npfmc.org/Meeting/Details/2441.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Diana Stram, Council staff; phone: (907) 271-2809; email: diana.stram@noaa.gov. For technical support please contact our admin Council staff, email: npfmc.admin@noaa.gov.

SUPPLEMENTARY INFORMATION:

Agenda

September 13, 2021, Through Friday, September 17, 2021

The agenda will include: (a) Final 2021 stock assessments for Eastern Bering Sea snow crab, Bristol Bay red king crab, and Eastern Bering Sea Tanner crab; (b) stock assessment modeling scenarios for Norton Sound red king crab; (c) other discussions including St. Matthew blue king crab specifications, updates on the NMFS trawl survey and fishery catches and bycatch, discussions about ecosystem and socioeconomic profiles, an ABSC questionnaire, GMACS, Climate Science Regional Action Plan, and (d) planning for future meetings.

September 24, 2021

The Crab Plan Team will convene on this day to review supplemental information for the final 2021 stock assessment for Bristol Bay red king crab, if necessary. The agenda is subject to change, and the latest version will be posted at https://meetings.npfmc.org/Meeting/Details/2441 prior to the meeting, along with meeting materials.

Connection Information

You can attend the meeting online using a computer, tablet, or smart phone, or by phone only. Connection information will be posted online at: https://meetings.npfmc.org/Meeting/Details/2441.

Public Comment

Public comment letters will be accepted and should be submitted electronically to https://meetings.npfmc.org/Meeting/Details/2441.

Authority: 16 U.S.C. 1801 et seq.

Dated: August 23, 2021.
Tracey L. Thompson,
Acting Deputy Director, Office of Sustainable Fisheries, National Marine Fisheries Service.

[FR Doc. 2021-18410 Filed 8-25-21; 8:45 am]

BILLING CODE 3510-22-P